DEPARTMENT OF ENERGY

Federal Energy Regulatory Commission

[Docket No. AD05-13-000]

Joint Boards on Security Constrained Economic Dispatch; Notice Announcing Initial Joint Board Meetings

October 14, 2005.

In accordance with the Commission's September 30, 2005 order,¹ take notice that the following initial joint board meetings will be held pursuant to section 1298 of the Energy Policy Act of 2005,² which added section 223 of the Federal Power Act.³ FPA section 223 requires the Commission to convene joint boards on a regional basis pursuant to FPA section 209 “to study the issue of security constrained economic dispatch for the various market regions,” “to consider issues relevant to what constitutes ‘security constrained economic dispatch’ and how such a mode of operating * * * affects or enhances the reliability and affordability of service,” and “to make recommendations to the Commission.”

¹ Joint Boards on Security Constrained Economic Dispatch, 112 FERC ¶ 61,353 (2005).

² Pub. L. No. 109-58, 1298, 119 Stat. 594, 986 (2005).

³ 16 U.S.C. 824 et seq. (2000).

Region | Date | Time | Location
West | November 13, 2005 | 1 p.m.-5 p.m | Renaissance Esmeralda Resort and Spa 44-400 Indian Wells Lane, Indian Wells, CA 92210-9971.
South | November 13, 2005 | 1 p.m.-5 p.m | Renaissance Esmeralda Resort and Spa, 44-400 Indian Wells Lane, Indian Wells, CA 92210-9971. Chicago, IL (further details to be provided in a later notice). Boston, MA (further details to be provided in a later notice).
PJM/MISO | November 21, 2005 | All day.
Northeast | November 29, 2005 | All day.

The meetings are open for the public to attend. Additional details regarding these meetings will be announced soon in supplemental notices and posted on our Web site at http://www.ferc.gov.

Transcripts of the conference workshop will be immediately available from Ace Reporting Company (202-347-3700 or 1-800-336-6646) for a fee. They will be available for the public on the Commission's eLibrary system seven calendar days after FERC receives the transcript. Additionally, Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at 202-502-8004 or sarah.mckinley@ferc.gov.

Magalie R. Salas,
Secretary.

[FR Doc. E5-5827 Filed 10-20-05; 8:45 am]

BILLING CODE 6717-01-P